ENVIRONMENTAL PROTECTION AGENCY

[EPA-HQ-OPP-2016-0671; FRL-9968-86]

Pesticides; Draft Guidance for Pesticide Registrants on Notifications, Non-Notifications and Minor Formulation Amendments; Extension of Comment Period

AGENCY: Environmental Protection Agency (EPA).

ACTION: Notice; extension of comment period.

SUMMARY: EPA issued a notice in the Federal Register of September 6, 2017, announcing the availability of and seeking public comment on a draft Pesticide Registration Notice (PR Notice) entitled “Pesticide Registration (PR) Notice 2017-XX: Notifications, Non-notifications and Minor Formulation Amendments.” This document extends the comment period for 60 days, from October 6, 2017 to December 5, 2017 to allow stakeholders additional time to submit comments on the proposed guidance.

DATES: The comment period for the document published on September 6, 2017 (82 FR 42094), is extended. Comments, identified by docket identification (ID) number EPA-HQ-OPP-2016-0671, must be received on or before December 5, 2017.

ADDRESSES: Submit your comments, identified by docket identification (ID) number EPA-HQ-OPP-2016-0671, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Michael L. Goodis, Registration Division (7505P), Office of Pesticide Programs, Environmental Protection Agency, 1200 Pennsylvania Ave. NW., Washington, DC 20460-0001; main telephone number: (703) 305-7090; email address: RDFRNotices@epa.gov.

SUPPLEMENTARY INFORMATION: This document extends the public comment period established in the Federal Register document of September 6, 2017 (82 FR 42094) (FRL-9963-53), which was set to end on October 6, 2017, by 60 days, or to December 5, 2017.

To submit comments, or access the docket, please follow the detailed instructions provided under ADDRESSES in the Federal Register document of September 6, 2017. If you have questions, consult the person listed under FOR FURTHER INFORMATION CONTACT.

Authority: 7 U.S.C. 136 et seq.

Dated: September 28, 2017.
Richard P. Keigwin, Jr.,
Director, Office of Pesticide Programs.

[FR Doc. 2017-21373 Filed 10-4-17; 8:45 am]

BILLING CODE 6560-50-P